DEPARTMENT OF HOMELAND SECURITY

Federal Emergency Management Agency

[Docket ID: FEMA-FEMA-2017-0019; OMB No. 1660-0061]

Agency Information Collection Activities: Proposed Collection; Comment Request, Federal Assistance to Individuals and Households Program, (IHP).

AGENCY: Federal Emergency Management Agency, DHS.

ACTION: Notice.

SUMMARY: The Federal Emergency Management Agency, as part of its continuing effort to reduce paperwork and respondent burden, invites the general public and other Federal agencies to take this opportunity to comment on an extension without change of a currently approved information collection. In accordance with the Paperwork Reduction Act of 1995, this notice seeks comments concerning the need to continue collecting information from individuals and States in order to provide and/or administer disaster assistance through the Federal Assistance to Individuals and Households Programs.

DATES: Comments must be submitted on or before July 31, 2017.

ADDRESSES: To avoid duplicate submissions to the docket, please use only one of the following means to submit comments:

(1) Online. Submit comments at www.regulations.gov under Docket ID FEMA-2017-0019. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact for further information. Elizabeth McDowell, Program Specialist, 540-686-3630. You may contact the Records Management Division for copies of the proposed collection of information at email address: FEMA-Information-Collections-Management@dhs.gov.

SUPPLEMENTARY INFORMATION: The Robert T. Stafford Disaster Relief and Emergency Assistance Act, 42 U.S.C. 5121-5207 (the Act) is the legal basis for FEMA to provide disaster related assistance and services to individuals who apply for disaster assistance benefits in the event of a federally declared disaster. The Individuals and Households Program (IHP) (the Act at 5174, Federal Assistance to Individuals and Households) provides financial assistance to eligible individuals and households who, as a direct result of a major disaster or emergency have necessary expenses and serious needs. The “Other Needs Assistance” (ONA) provision of IHP provides disaster assistance to address needs other than housing, such as personal property, transportation, etc.

The delivery of the ONA provision of IHP is contingent upon the State/Tribe choosing an administrator for the assistance. States/Tribes satisfy the selection of an administrator of ONA by completing the Administrative Option Agreement (FEMA Form 010-0-11), which establishes a plan for the delivery of ONA. This agreement establishes a partnership with FEMA and inscribes the plan for the delivery of disaster assistance. The agreement is used to identify the State/Tribe's proposed level of support and participation during disaster recovery. In response to Super Storm Sandy (October 2012), Congress added “child care” expenses as a category of ONA through the Sandy Recovery Improvement Act of 2013 (SRIA), Pub. L. 113-2. Section 1108 of the SRIA amends section 408(e)(1) of the Stafford Act (42 U.S.C. 5174(e)(1)), giving FEMA the specific authority to pay for “child care” expenses as disaster assistance under ONA.

Collection of Information

Title: Federal Assistance to Individuals and Households Program, (IHP).

Type of Information Collection: Revision of a currently approved information collection.

OMB Number: 1660-0061.

Form Titles and Numbers: FEMA Form 010-0-11, Administrative Option Agreement for the Other Needs provision of Individuals and Households Program, (IHP); FEMA Form 010-0-12, Request for Continued Assistance (Application for Continued Temporary Housing Assistance); FEMA Form 010-0-12S (Spanish) Solicitud para Continuar la Asistencia de Vivienda Temporera.

Abstract: The Federal Assistance to Individuals and Households Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: State, Local or Tribal Government.

Number of Respondents: 59,073.

Number of Responses: 78,399.

Estimated Total Annual Burden Hours: 65,267 hours.

Estimated Cost: The estimated annual cost to respondents for the hour burden is $2,043,275.28. There are no annual costs to respondents operations and maintenance costs for technical services. There is no annual start-up or capital costs. The cost to the Federal Government is $213,556.60.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 19, 2017.
Richard Mattison,
Records Management Branch Chief, Mission Support, Federal Emergency Management Agency, Department of Homeland Security.

[FR Doc. 2017-11089 Filed 5-26-17; 8:45 am]

BILLING CODE 9111-23-P